DEPARTMENT OF ENERGY

Federal Energy Regulatory Commission

[Project No. 12540-002]

Hydrodynamics, Inc.; Notice of Paper Scoping and Soliciting Scoping Comments and Errata to Tendering Notice

July 3, 2008.

Take notice that the following hydroelectric applications have been filed with the Commission and are available for public inspection.

a. Type of Application: Minor unconstructed projects.

b. Project No.: 12540-002, 12545-002, and 12549-002.

c. Date Filed: March 31, 2008.

d. Applicant: Hydrodynamics, Inc.

e. Name of Projects: Woods, Johnson, and A-Drop.

f. Location: On the Greenfields Main Canal and the Greenfields South Canal, parts of the Bureau of Reclamation's Sun River Irrigation Project, in Cascade and Teton Counties, Montana, near Fairfield, Montana.

g. Filed Pursuant to: Federal Power Act 16 U.S.C. 791(a)-825(r).

h. Applicant Contact: Roger Kirk, Hydrodynamics, Inc., P.O. Box 1136, Bozeman, MT 59771, (406) 587-5086.

i. FERC Contact: Dianne Rodman, Federal Energy Regulatory Commission, 888 First Street, NE., Washington, DC 20426; telephone (202) 502-6077 or by e-mail at dianne.rodman@ferc.gov.

j. Deadline for filing scoping comments: August 4, 2008.

All documents (original and eight copies) should be filed with: Kimberly D. Bose, Secretary, Federal Energy Regulatory Commission, 888 First Street, NE., Washington, DC 20426.

The Commission's Rules of Practice require all intervenors filing documents with the Commission to serve a copy of that document on each person on the official service list for the project. Further, if an intervenor files comments or documents with the Commission relating to the merits of an issue that may affect the responsibilities of a particular resource agency, they must also serve a copy of the document on that resource agency.

Scoping comments may be filed electronically via the Internet in lieu of paper. The Commission strongly encourages electronic filings. See 18 CFR 385.2001(a)(1)(iii) and the instructions on the Commission's Web site (http://www.ferc.gov) under the “e-Filing” link.

k. These applications are not ready for environmental analysis at this time.

l. The proposed Woods Project would be built at the Greenfields Main Canal's Woods drop structure. The applicant proposes to construct: (1) An inflatable weir spanning the full width of the canal; (2) an intake structure with trash rack and radial gate or stop-log shut off; (3) a buried, 72-inch-diameter, 750-foot-long steel or polyethylene penstock; (4) a powerhouse containing one Francis or propeller (Reaction) turbine and one generator with a rated output of 900 kilowatts (kW); (5) a tailrace about 12.5 feet long, returning flows to the canal; (6) a switchyard; and (7) a 0.1-mile-long, 69-kilovolt (kV) transmission line interconnecting with an existing powerline. Average annual generation would be 2.2 gigawatt hours (GWh).

The proposed Johnson Project would be built at the Greenfields South Canal's Johnson drop structure. The applicant proposes to construct: (1) An inflatable weir spanning the width of the canal; (2) an intake structure with trash rack and radial gate or stop-log shut off; (3) a buried, 60-inch-diameter, 900-foot-long steel or polyethylene penstock; (4) a powerhouse containing one Francis or propeller (Reaction) turbine and one generator with a rated output of 700 kW; (5) a tailrace about 11.25 feet long, returning flows to the canal; (6) a switchyard; (7) a 0.5-mile-long, 69-kV transmission line interconnecting with an existing powerline; and (8) a powerhouse access road. Average annual generation would be 1.7 GWh.

The proposed A-Drop Project would be built at the Greenfields Main Canal's Greenfield drop structure. The applicant proposes to construct: (1) An inflatable weir spanning the width of the canal; (2) an intake structure with trash rack and radial gate or stop-log shut off; (3) a buried, 96-inch-diameter, 570-foot-long steel or polyethylene penstock; (4) a powerhouse containing one Francis or propeller (Reaction) turbine and one generator with a rated output of 1,000 kW; (5) a tailrace returning flows to the canal; (6) a switchyard; (7) a 0.1-mile-long, 12-kV transmission line interconnecting with an existing powerline; and (8) an approximately 570-foot-long powerhouse access road. Average annual generation would be 2.5 GWh.

m. Copies of the applications are available for review at the Commission in the Public Reference Room or may be viewed on the Commission's Web site at http://www.ferc.gov using the “eLibrary” link. Enter the docket number, excluding the last three digits, in the docket number field to access each of the documents. For assistance, contact FERC Online Support at FERCOnlineSupport@ferc.gov or toll-free at 1-866-208-3676, or for TTY, (202) 502-8659. Copies are also available for inspection and reproduction at the address in item h above.

You may also register online at http://www.ferc.gov/docs-filings/esubscription.asp to be notified via e-mail of new filings and issuances related to this or other pending projects. For assistance, contact FERC Online Support.

n. Scoping Process

The Commission intends to prepare an Environmental Assessment (EA) on the projects in accordance with the National Environmental Policy Act of 1969, as amended.¹ The EA will consider both site-specific and cumulative environmental impacts and reasonable alternatives to the proposed actions.

¹ One EA will be prepared for the Woods Project (FERC No. P-12540), Johnson Project, (FERC No. P-12545), Greenfield Project (FERC No. P-12548) and A-Drop Project (FERC No. P-12549).

Commission staff does not propose to conduct any on-site scoping meetings at this time. Instead, the staff will solicit comments, recommendations, information, and alternatives in the Scoping Document (SD).

Copies of the SD outlining the subject areas to be addressed in the EA were distributed to the parties on the Commission's mailing list. Copies of the SD may be viewed on the Web at http://www.ferc.gov using the “eLibrary” link (see item m above).

o. The tendering notice issued April 14, 2008, incorrectly stated that the application for the A-Drop Project was filed on April 1, 2008. The correct filing date for the A-Drop Project application is March 31, 2008.

Kimberly D. Bose,
Secretary.

[FR Doc. E8-15791 Filed 7-10-08; 8:45 am]

BILLING CODE 6717-01-P